DEPARTMENT OF ENERGY

Federal Energy Regulatory Commission

Notice of Attendance at NYISO Meetings

The Federal Energy Regulatory Commission hereby gives notice that members of the Commission and Commission staff may attend upcoming New York Independent System Operator, Inc. (NYISO) meetings, as well as other subcommittee or working group meetings that are not currently scheduled, but that are typically scheduled on short notice or meetings that are scheduled on short notice based on items arising from the agenda as posted on the NYISO Web site.¹ The Commission and Commission staff may attend the following meetings:

¹ NYISO Subcommittees, Task Forces, and Working Groups of the three primary committees (Management, Business Issues, and Operating) meet on a variety of topics; they convene and dissolve on an as-needed basis. Therefore, staff may monitor different working groups as issues arise and according to postings on the NYISO Web site.

NYISO Business Issues Committee

• October 17, 2012 (Rensselaer, NY).

• November 14, 2012 (Rensselaer, NY).

• December 5, 2012 (Rensselaer, NY).

• January 16, 2013 (Rensselaer, NY).

• February 13, 2013 (Rensselaer, NY).

• March 13, 2013 (Rensselaer, NY).

• April 10, 2013 (Rensselaer, NY).

• May 8, 2013 (Rensselaer, NY).

• June 19, 2013 (Rensselaer, NY).

• July 17, 2013 (Rensselaer, NY).

• August 14, 2013 (Rensselaer, NY).

• September 18, 2013 (Rensselaer, NY).

NYISO Management Committee

• October 31, 2012 (Rensselaer, NY).

• November 28, 2012 (Rensselaer, NY).

• December 19, 2012 (Rensselaer, NY).

• January 30, 2013 (Rensselaer, NY).

• February 27, 2013 (Rensselaer, NY).

• March 27, 2013 (Rensselaer, NY).

• April 24, 2013 (Rensselaer, NY).

• May 29, 2013 (Rensselaer, NY).

• June 11, 2013 (Rensselaer, NY).

• July 31, 2013 (Rensselaer, NY).

• August 28, 2013 (Rensselaer, NY).

• September 25, 2013 (Rensselaer, NY).

NYISO ICAP Working Group

• October 23, 2012 (Rensselaer, NY).

• November 20, 2012 (Rensselaer, NY).

• December 11, 2012 (Rensselaer, NY).

• Various additional dates.

NYISO Operating Committee

• October 18, 2012 (Rensselaer, NY).

• November 15, 2012 (Rensselaer, NY).

• December 6, 2012 (Rensselaer, NY).

• January 17, 2013 (Rensselaer, NY).

• February 28, 2013 (Rensselaer, NY).

• March 14, 2013 (Rensselaer, NY).

• April 11, 2013 (Rensselaer, NY).

• May 9, 2013 (Rensselaer, NY).

• June 20, 2013 (Rensselaer, NY).

• July 18, 2013 (Rensselaer, NY).

• August 15, 2013 (Rensselaer, NY).

• September 19, 2013 (Rensselaer, NY).

Market Issues Working Group

• Various dates.

NYISO Transmission Planning Advisory Subcommittee

• Various dates.

NYISO Budget and Priorities Working Group

• Various dates.

NYISO Credit Policy Task Force

• Various dates.

NYISO Price Responsive Load Working Group

• Various dates.

NYISO Interconnection Issues Task Force

• Various dates.

For additional meeting information, see: http://www.nyiso.com/public/committees/calendar/index.jsp.

The discussions at each of the meetings described above may address matters at issue in pending proceedings before the Commission including the following:

Docket Nos. EL07-39 and ER08-695, New York Independent System Operator, Inc.

Docket No. EL08-70-000, Canandaigua Power Partners, LLC v. New York Independent System Operator, Inc.

Docket No. EL11-42, Astoria Generating Company LLC v. New York Independent System Operator, Inc.

Docket No. EL11-50, Astoria Generating Company LLC v. New York Independent System Operator, Inc.

Docket No. EL12-6, Seneca Power Partners, L.P. v. New York Independent System Operator, Inc.

Docket No. EL12-9, Astoria Gas Turbine Power LLC v. New York Independent System Operator, Inc.

Docket No. EL12-56, Energy Spectrum, Inc. and Riverbay Corporation v. New York Independent System Operator, Inc.

Docket No. EL12-64, Linden VFT, LLC v. New York Independent System Operator, Inc.

Docket No. EL12-89, Village of Port Jefferson v. New York Independent System Operator, Inc.

Docket No. EL12-98, Hudson Transmission Partners, LLC v. New York Independent System Operator, Inc.

Docket No. ER01-3155, New York Independent System Operator, Inc.

Docket Nos. ER01-3001-021/ER03-647-012 and ER01-3001-022/ER03-647-013, New York Independent System Operator, Inc.

Docket No. ER04-449, New York Independent System Operator, Inc.

Docket No. ER04-230, New York Independent System Operator, Inc.

Docket No. ER06-291-001, New York Independent System Operator, Inc.

Docket No. ER04-230, New York Independent System Operator, Inc.

Docket No. ER04-230, New York Independent System Operator, Inc.

Docket No. ER04-230, New York Independent System Operator, Inc.

Docket No. ER06-1014, New York Independent System Operator, Inc.

Docket No. ER07-612, New York Independent System Operator, Inc.

Docket No. ER08-850, New York Independent System Operator, Inc.

Docket No. ER08-867, New York Independent System Operator, Inc.

Docket No. ER08-1281, New York Independent System Operator, Inc.

Docket No. ER09-1142, New York Independent System Operator, Inc.

Docket No. ER10-1359, TC Ravenswood, LLC

Docket No. ER10-2220, New York Independent System Operator, Inc.

Docket No. ER10-2371, New York Independent System Operator, Inc.

Docket No. ER10-3043, New York Independent System Operator, Inc.

Docket No. ER11-2547, New York Independent System Operator, Inc.

Docket No. ER11-1844, New York Independent System Operator, Inc.

Docket No. ER11-4338, New York Independent System Operator, Inc.

Docket No. ER12-360-001, New York Independent System Operator, Inc.

Docket No. ER12-718-001, New York Independent System Operator, Inc.

Docket Nos. ER12-1653-000, -001, New York Independent System Operator, Inc.

Docket No. ER12-2568, New York Independent System Operator, Inc.

Docket No. ER12-2622, New York Independent System Operator, Inc.

Docket No. RM04-7, Market-Based Rates for Wholesale Sales of Electric Energy, Capacity, and Ancillary Services by Public Utilities

Docket No. RM10-11, Integration of Variable Energy Resources

Docket No. RM10-15, Mandatory Reliability Standards for Interconnection Reliability Operating Limits

Docket No. RM10-16, System Restoration Reliability Standards

Docket No. RM10-23, Order No. 1000, Transmission Planning and Cost Allocation by Transmission Owning and Operating Public Utilities

The meetings are open to stakeholders. For more information, contact Travis Allen, Office of Energy Market Regulation, Federal Energy Regulatory Commission at (202) 502-8796 or Travis.Allen@ferc.gov.

Dated: October 2, 2012.
Kimberly D. Bose,
Secretary.

[FR Doc. 2012-24819 Filed 10-9-12; 8:45 am]

BILLING CODE 6717-01-P